ENVIRONMENTAL PROTECTION AGENCY

40 CFR Part 81

[EPA-HQ-OAR-2009-0443; FRL-9321-2]

EPA Responses to State and Tribal 2008 Lead Designation Recommendations: Notice of Availability and Public Comment Period

AGENCY: Environmental Protection Agency (EPA).

ACTION: Notice of availability and public comment period.

SUMMARY: Notice is hereby given that the EPA has posted its responses to State and tribal designation recommendations for the 2008 Lead (Pb) National Ambient Air Quality Standards (NAAQS) on its Internet Web site. The EPA invites public comments on its responses during the comment period specified in the DATES section. The EPA sent responses directly to the states and tribes on or about June 15, 2011, and intends to make final designation determinations for the 2008 Pb NAAQS by October 14, 2011.

DATES: Comments must be received on or before July 21, 2011. Please refer to SUPPLEMENTARY INFORMATION for additional information on the comment period.

ADDRESSES: Submit your comments, identified by Docket ID No. OAR-2009-0443, by one of the following methods:

• http://www.regulations.gov. Follow the online instructions for submitting comments.

• E-mail: a-and-r-docket@epa.gov. Attention Docket ID No. EPA-HQ-OAR-2009-0443.

• Fax: 202-566-9744. Attention Docket ID No. EPA-HQ-OAR-2009-0443.

• Mail: Air Docket, Attention Docket ID No. EPA-HQ-OAR-2009-0443, Environmental Protection Agency, Mail Code: 6102T, 1200 Pennsylvania Ave., NW., Washington, DC 20460.

• Hand Delivery: EPA Docket Center, 1301 Constitution Avenue, NW., Room 3334, Washington, DC. Such deliveries are only accepted during the Docket's normal hours of operation, and special arrangements should be made for deliveries of boxed information.

Instructions: Direct your comments to Docket ID No. EPA-HQ-OAR-2009-0443. The EPA's policy is that all comments received will be included in the public docket without change and may be made available online at http://www.regulations.gov, including any personal information provided, unless the comment includes information claimed to be confidential business information or other information whose disclosure is restricted by statute. Do not submit information that you consider to be confidential business information or otherwise protected through http://www.regulations.gov or e-mail. The http://www.regulations.gov Web site is an “anonymous access” system, which means the EPA will not know your identity or contact information unless you provide it in the body of your comment. If you send an e-mail comment directly to the EPA without going through http://www.regulations.gov, your e-mail address will be automatically captured and included as part of the comment that is placed in the public docket and made available on the Internet. If you submit an electronic comment, the EPA recommends that you include your name and other contact information in the body of your comment and with any disk or CD-ROM you submit. If the EPA is unable to read your comment and cannot contact you for clarification due to technical difficulties, the EPA may not be able to consider your comment. Electronic files should avoid the use of special characters, any form of encryption, and be free of any defects or viruses. For additional information about the EPA's public docket, visit the EPA Docket Center homepage at http://www.epa.gov/epahome/dockets.htm. For additional instructions on submitting comments, go to Section II of the SUPPLEMENTARY INFORMATION section of this document.

Docket: All documents in the docket are listed in the http://www.regulations.gov index. Although listed in the index, some information is not publicly available, i.e., confidential business information or other information whose disclosure is restricted by statute. Certain other material, such as copyrighted material, is not placed on the Internet and will be publicly available only in hard copy form. Publicly available docket materials are available either electronically in http://www.regulations.gov or in hard copy at the EPA Docket Center, EPA West, Room 3334, 1301 Constitution Avenue, NW., Washington, DC. The Public Reading Room is open from 8:30 a.m. to 4:30 p.m., Monday through Friday, excluding legal holidays. The telephone number for the Public Reading Room is (202) 566-1744, and the telephone number for the Air Docket is (202) 566-1742.

FOR FURTHER INFORMATION CONTACT: For general questions concerning this action, please contact Rhonda Wright, U.S. EPA, Office of Air Quality Planning and Standards, Air Quality Planning Division, C539-04, Research Triangle Park, NC 27711, telephone (919) 541-1087, e-mail at wright.rhonda@epa.gov. For questions regarding the EPA Region 1, please contact Robert McConnell, U.S. EPA, telephone (617) 918-1046, e-mail at mcconnell.robert@epa.gov. For questions regarding the EPA Region 2, please contact Mazeeda Khan, U.S. EPA, telephone (212) 637-3715, email at khan.mazeeda@epa.gov. For questions regarding the EPA Region 3, please contact Melissa Linden, U.S. EPA, telephone (215) 814-2096, e-mail at linden.melissa@epa.gov. For questions regarding the EPA Region 4, please contact Lynorae Benjamin, U.S. EPA, telephone (404) 562-9040, e-mail at benjamin.lynorae@epa.gov. For questions regarding the EPA Region 5, please contact Andy Chang, U.S. EPA, telephone (312) 886-0258, e-mail at chang.andy@epa.gov. For questions regarding the EPA Region 6, please contact Guy Donaldson, U.S. EPA, telephone (214) 665-7242, e-mail at donaldson.guy@epa.gov. For questions regarding the EPA Region 7, please contact Stephanie Doolan, U.S. EPA, telephone (913) 551-7719, e-mail at doolan.stephanie@epa.gov. For questions regarding the EPA Region 8, please contact Kevin Leone, U.S. EPA, telephone (303) 312-6227, e-mail at leone.kevin@epa.gov. For questions regarding the EPA Region 9, please contact Ginger Vagenas, U.S. EPA, telephone (415) 972-3964, e-mail at vagenas.ginger@epa.gov. For questions regarding the EPA Region 10, please contact Steve Body, U.S. EPA, telephone (206) 553-0782, e-mail at body.steve@epa.gov.

SUPPLEMENTARY INFORMATION:

I. Purpose

The purpose of this notice is to solicit public comments from interested parties other than states and tribes on the EPA's recent responses to the State and tribal designation recommendations for the 2008 Pb NAAQS. These responses can be found on the EPA's Internet Web site at http://www.epa.gov/leaddesignations and also in the public docket for Pb designations at Docket ID No. EPA-HQ-OAR-2009-0443. Clean Air Act (CAA) section 107(d) provides a process for designations that involves recommendations by states and tribes to the EPA and responses from the EPA to those parties, prior to the EPA promulgating final designations and boundaries. The EPA is not required under CAA section 107(d) to seek public comment during the designation process, but is electing to do so for the 2008 Pb NAAQS in order to gather additional information for the EPA to consider before making final designations. The EPA invites public comment on its responses to states and tribes during the 30-day comment period provided in this notice. Due to the statutory timeframe for promulgating designations set out in CAA section 107(d), the EPA will not be able to consider any comments submitted after July 21, 2011. This notice and opportunity for public comment does not affect any rights or obligations of any state, tribe or the EPA which might otherwise exist pursuant to CAA section 107(d).

Please refer to the ADDRESSES section in this document for specific instructions on submitting comments and locating relevant public documents.

As required under CAA section 107(d), the EPA has identified five areas as not meeting the 2008 Pb NAAQS and will be designating these areas as nonattainment. The EPA is proposing that all other areas be designated as unclassifiable/attainment. In establishing nonattainment area boundaries, the EPA is required to include any nearby area that is contributing to the area that does not meet that standard. We are particularly interested in receiving comments, supported by relevant information, if you believe that a specific geographic area that the EPA is proposing to identify as a nonattainment area should not be categorized by the CAA section 107(d) criteria as nonattainment, or if you believe that a specific area not proposed by the EPA to be identified as a nonattainment area should in fact be categorized as nonattainment using the CAA section 107(d) criteria. Please be as specific as possible in supporting your views.

• Describe any assumptions and provide any technical information and/or data that you used.

• Provide specific examples to illustrate your concerns, and suggest alternatives.

• Explain your views as clearly as possible.

• Make sure to submit your comments by the comment period deadline identified.

II. Instructions for Submitting Public Comments

A. What should I consider as I prepare my comments for the EPA?

1. Submitting Confidential Business Information.

Do not submit this information to the EPA through http://www.regulations.gov or e-mail. Clearly mark the part or all of the information that you claim to be confidential business information. For confidential business information in a disk or CD-ROM that you mail to the EPA, mark the outside of the disk or CD-ROM as confidential business information and then identify electronically within the disk or CD-ROM the specific information that is claimed as confidential business information. In addition to one complete version of the comment that includes information claimed as confidential business information, a copy of the comment that does not contain the information claimed as CBI must be submitted for inclusion in the public docket. Information so marked will not be disclosed except in accordance with procedures set forth in 40 CFR part 2. Send or deliver information identified as CBI only to the following address: Roberto Morales, U.S. EPA, Office of Air Quality Planning and Standards, Mail Code C404-02, Research Triangle Park, NC 27711, telephone (919) 541-0880, e-mail at morales.roberto@epa.gov, Attention Docket ID No. OAR-2009-0443.

2. Tips for Preparing Your Comments. When submitting comments, remember to:

• Identify the rulemaking by docket number and other identifying information (subject heading, Federal Register date and page number).

• Follow directions.

• Explain why you agree or disagree; suggest alternatives and substitute language for your requested changes.

III. Background

On October 15, 2008, the EPA substantially strengthened the primary NAAQS for Pb to provide increased protection against adverse health effects associated with exposure to Pb in at-risk groups, especially children. The revised primary NAAQS was lowered from the 1.5 micrograms per cubic meter (μg/m³) level set in 1978, to a level of 0.15 μg/m³. To provide increased protection against Pb-related welfare effects, the EPA revised the secondary NAAQS to be identical in all respects to the revised primary NAAQS. The EPA also established new criteria for siting ambient Pb monitors and new data collection requirements. The EPA determined that the pre-existing ambient Pb monitoring network was inadequate for determining whether many areas are meeting the revised Pb NAAQS. Monitors meeting the new network siting requirements were to begin operation January 1, 2010.

The process for designating areas following promulgation of a new or revised NAAQS is contained in CAA section 107(d) (42 U.S.C. 7407).

The CAA requires the EPA to complete the initial designation process within 2 years of promulgating a new or revised NAAQS. If the Administrator has insufficient information to make these designations, the EPA has the authority to extend the designation process by up to 1 year. In light of the new monitoring network, the EPA is completing the Pb designations in two rounds. In the first round, published on November 16, 2010, the EPA designated as “nonattainment” 16 areas as violating the 2008 Pb NAAQS based on data from the pre-2010 monitoring network. For all other areas, the EPA extended the deadline for designations by up to 1 year so that data from the newly deployed monitors can be considered in making appropriate designation decisions. States previously submitted air quality recommendations including appropriate boundaries within 1 year of promulgation of the NAAQS (tribes are not required to submit recommendations, but the EPA encourages their participation in the designations process), as required by the CAA. They were given an opportunity to update their recommendation letters for those remaining areas for our consideration in the second round of designations by December 15, 2010. By no later than 120 days prior to promulgating designations, the EPA is required to notify states or tribes of any intended modification to an area designation or boundary recommendation that the EPA deems necessary. On or about June 15, 2011, the EPA notified states and tribes of its intended area designations for the 2008 Pb NAAQS. States and tribes now have an opportunity to demonstrate why they believe a modification proposed by the EPA may be inappropriate. In these responses, the EPA has encouraged states and tribes to provide comments and additional information for consideration by the EPA in finalizing designations. The EPA intends to make final designation determinations for the 2008 Pb NAAQS by October 14, 2011.

IV. Internet Web Site for Rulemaking Information

The EPA has also established a Web site for this rulemaking at http://www.epa.gov/leaddesignations. The Web site includes the EPA's State and tribal designation recommendations, information supporting the EPA's preliminary designation decisions, as well as the rulemaking actions and other related information that the public may find useful.

Dated: June 15, 2011.
Mary Eileen Henigin,
Acting Director, Office of Air Quality Planning and Standards.

[FR Doc. 2011-15415 Filed 6-20-11; 8:45 am]

BILLING CODE 6560-50-P